DEPARTMENT OF HOUSING AND URBAN DEVELOPMENT

[Docket No. FR-6030-N-01]

Reducing Regulatory Burden; Enforcing the Regulatory Reform Agenda Under Executive Order 13777

AGENCY: Office of the Secretary, HUD.

ACTION: Notice; request for comment.

SUMMARY: In accordance with Executive Orders 13771, “Reducing Regulation and Controlling Regulatory Costs,” and 13777, “Enforcing the Regulatory Reform Agenda,” Improving Regulation and Regulatory Review,” HUD is reviewing its existing regulations to assess their compliance costs and reduce regulatory burden. As required by Executive Order 13777, HUD is in the process of establishing a Regulatory Task Force charged with identifying agency regulations that should be repealed, replaced, or modified. As part of this review, HUD invites public comments to assist in identifying existing regulations that may be outdated, ineffective, or excessively burdensome. HUD's goal in conducting the review is to make the Department's regulations more effective and less burdensome in achieving HUD's mission to create strong, sustainable, inclusive communities, and quality affordable homes for all.

DATES: Comment Due Date: June 14, 2017.

ADDRESSES: Interested persons are invited to submit comments regarding this notice to the Regulations Division, Office of General Counsel, Department of Housing and Urban Development, 451 7th Street SW., Room 10276, Washington, DC 20410-0500. Communications must refer to the above docket number and title.

Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the notice.

No Facsimile Comments. Facsimile (fax) comments are not acceptable.

Public Inspection of Public Comments. All properly submitted comments and communications submitted to HUD will be available for public inspection and copying between 8 a.m. and 5 p.m. weekdays at the above address. Due to security measures at the HUD Headquarters building, an appointment to review the public comments must be scheduled in advance by calling the Regulations Division at 202-708-3055 (this is not a toll-free number). Individuals with speech or hearing impairments may access this number via TTY by calling the Federal Relay Service at 1-800-877-8339 (this is a toll-free number). Copies of all comments submitted are available for inspection and downloading at www.regulations.gov.

FOR FURTHER INFORMATION CONTACT: Ariel Pereira, Associate General Counsel for Legislation and Regulations, Office of General Counsel, Department of Housing and Urban Development, 451 7th Street SW., Suite 10282, Washington, DC 20410; telephone number 202-402-5138 (this is not a toll-free number). Persons with hearing or speech impairments may access this number through TTY by calling the Federal Information Relay Service, toll-free, at 800-877-8339.

SUPPLEMENTARY INFORMATION:

I. Background

A. HUD's Regulatory Mission

HUD plays a significant role in the lives of families and in communities throughout America. HUD's mission is to create strong, sustainable, inclusive communities and quality affordable homes for all. Consistent with that mission, HUD has statutory responsibility for a wide variety of regulations. HUD's regulatory programs and initiatives aid the creation of suitable living environments, and help to ensure that all citizens have access to decent, safe, and sanitary housing.

B. The Regulatory Reform Agenda: Executive Orders 13771 and 13777

On January 30, 2017, President Trump issued Executive Order 13771, entitled “Reducing Regulation and Controlling Regulatory Costs.” ¹ Executive Order 13771 provides that “it is essential to manage the costs associated with the governmental imposition of private expenditures required to comply with Federal regulations.” ² Toward that end, Executive Order 13771 directs that “for every one new regulation issued, at least two prior regulations be identified for elimination.” ³

¹ Executive Order 13771 was subsequently published in the Federal Register on February 3, 2017, at 82 FR 9339.

² Section 1 of Executive Order 13371.

³ Id.

Consistent with these policy goals, on February 24, 2017, President Trump issued Executive Order 13777, entitled “Enforcing the Regulatory Reform Agenda.” ⁴ The purpose of the Executive Order is to alleviate unnecessary regulatory burdens placed on the American people. Executive Order 13777 builds upon other Administration regulatory reform efforts and, in particular, the policy announced by the President in Executive Order 13771. Executive Order 13777 directs each agency to establish a Regulatory Task Force to evaluate existing regulations and identify those that may merit repeal, replacement, or modification. Section 3(d) of the Order provides that, at a minimum, each task force must attempt to identify regulations that:

⁴ The Executive Order was subsequently published in the Federal Register on March 1, 2017, at 82 FR 12285.

1. Eliminate jobs, or inhibit job creation;

2. Are outdated, unnecessary, or ineffective;

3. Impose costs that exceed benefits;

4. Create a serious inconsistency or otherwise interfere with regulatory reform initiatives and policies;

5. Are inconsistent with the requirements of section 515 of the Treasury and General Government Appropriations Act, 2001 (44 U.S.C. 3516 note), or the guidance issued pursuant to that provision, in particular those regulations that rely in whole or in part on data, information, or methods that are not publicly available or that are insufficiently transparent to meet the standard for reproducibility; or

6. Derive from or implement Executive Orders or other Presidential directives that have been subsequently rescinded or substantially modified.

II. This Notice—HUD's Implementation of Executive Order 13777

HUD is in the process of establishing its Regulatory Task Force. As the Task Force commences its work, HUD seeks suggestions for specific current regulations that may be outdated, ineffective, or excessively burdensome, and, therefore, warranting repeal, replacement, or modification. Executive Order 13777 encourages such public input, providing that “each Regulatory Reform Task Force shall seek input and other assistance, as permitted by law, from entities significantly affected by Federal regulations, including State, local, and tribal governments, small businesses, consumers, non-governmental organizations, and trade associations.” ⁵

⁵ Section 3(e) of Executive Order 13777.

The following is the list of topics on which HUD specifically seeks comments. The topics represent a preliminary attempt to identify issues raised by HUD's effort to evaluate and identify regulations that merit repeal, replacement, or modification. Comments should reference a specific regulation by citation to the Code of Federal Regulations, and provide information on the perceived problem and the rationale for any recommended solution. This is a nonexhaustive list that is meant to assist in the formulation of comments and is not intended to limit the issues that commenters may choose to address.

1. Are there any regulations that should be repealed, replaced, or modified?

2. For each regulation identified in question number 1, please identify whether the regulation:

(a) Results in the elimination of jobs, or inhibits job creation;

(b) Is outdated, unnecessary, or ineffective;

(c) Imposes costs that exceed benefits;

(d) Creates a serious inconsistency or otherwise interferes with regulatory reform initiatives and policies;

(e) Is inconsistent with the requirements or regulations of section 515 of the Treasury and General Government Appropriations Act, 2001 (44 U.S.C. 3516 note), which requires that agencies maximize the quality, objectivity, and integrity of the information (including statistical information) they disseminate; or

(f) Derives from or implements Executive Orders or other Presidential directives that have been subsequently rescinded or substantially modified.

3. What factors should HUD use when considering how to prioritize rules when implementing the regulatory offsets required by Executive Order 13771?

4. Are there any HUD regulatory requirements that have been overtaken by technological developments? Can new technologies be used to modify, streamline, or do away with these requirements?

5. Are there any existing HUD requirements that duplicate or conflict with requirements of another Federal agency? Can the requirement be modified to eliminate the conflict?

6. What are the estimated total compliance costs of the HUD regulations to which you or your organization must comply? This should include the costs of complying with information collections, recordkeeping, and other requirements subject to the Paperwork Reduction Act of 1995 (44 U.S.C. 3501-3522).

Dated: May 9, 2017.
Benjamin S. Carson, Sr.,
Secretary.

[FR Doc. 2017-09730 Filed 5-12-17; 8:45 am]

BILLING CODE 4210-67-P